NUCLEAR REGULATORY COMMISSION

[NRC-2012-0156; IA-12-014]

In the Matter of Mr. Timothy Goold; Order Prohibiting Involvement in NRC-Licensed Activities

I

Mr. Timothy Goold was employed as a radiographer at JANX Integrity Group, Inc. (JANX), at a temporary jobsite on Spy Island, Alaska during July 2011. JANX is the holder of the U.S. Nuclear Regulatory Commission (NRC or Commission's) Materials License No. 21-16560-01 which authorized, at the time, specific activities involving byproduct, source, and/or special nuclear material.

II

On July 27, 2011, the NRC conducted an unannounced inspection of JANX's radiographic activities on Spy Island. The inspector observed Mr. Goold performing radiography without a second qualified radiographer present. When the inspector approached Mr. Goold to inquire about the location of the second qualified radiographer, Mr. Goold disconnected the camera from the crank and guide tube, placed the camera on a snowmobile used to transport it to the radiography truck and departed, telling the inspector he would return shortly. When the inspector walked to the radiography truck, Mr. Goold again left, and avoided the inspector. Because the second qualified radiographer also left in order to find Mr. Goold, and did not return for approximately 2 hours, the NRC's ability to inspect all aspects of JANX's radiographic operations was severely impacted. The NRC Office of Investigations (OI) began an investigation on October 31, 2011, to determine, in part, whether Mr. Goold: (1) Willfully performed radiography without a second person present, and (2) willfully impeded the NRC's inspection by avoiding the NRC inspector. In the non-public letter dated March 15, 2012, the NRC informed Mr. Goold that the NRC was considering escalated enforcement action for two apparent violations of Title 10 of the Code of Federal Regulations (10 CFR) 30.10, the NRC's deliberate misconduct rule. The NRC offered Mr. Goold the opportunity to respond in writing, request a predecisional enforcement conference or request alternative dispute resolution (ADR) with the NRC in an attempt to resolve issues associated with this matter. Mr. Goold provided a written response on April 9, 2012.

Based on the NRC review of the information obtained during the inspection, the investigation, and contained in Mr. Goold's letter of April 9, 2012, the NRC identified two violations of the NRC's rule prohibiting deliberate misconduct, 10 CFR 30.10. First, Mr. Goold engaged in deliberate misconduct in violation of 10 CFR 30.10(a)(1) by performing radiography without a second person present causing JANX to be in violation of 10 CFR 34.41(a). During the investigation, Mr. Goold acknowledged performing radiography without a second qualified radiographer present and that he understood the requirement. A licensee official testified during the investigation that the licensee had previously identified an occasion where Mr. Goold had performed radiography alone and the licensee had informed him of the consequences, should it happen again. The NRC inspector observed the second qualified radiographer collect the radiography films and leave the area after which Mr. Goold proceeded with radiographic operations.

Second, Mr. Goold again engaged in deliberate misconduct in violation of 10 CFR 30.10(a)(1) when he deliberately avoided the inspector by leaving when the inspector questioned him regarding the whereabouts of the second qualified radiographer. In addition, when the inspector walked over to the radiography truck, Mr. Goold again avoided the inspector by leaving the area. This caused JANX to be in violation of 10 CFR 30.52(a). During the investigation, Mr. Goold admitted to being scared and sitting in the smoke shack during the inspection to avoid the inspector.

III

Based on the above, the NRC has concluded that Mr. Timothy Goold, a former employee of JANX engaged in deliberate misconduct that caused JANX to be in violation of 10 CFR 34.41(a) and 10 CFR 30.52(a) and constitutes a violation of 10 CFR 30.10(a)(1).

The NRC must be able to rely on the licensees and their employees to comply with NRC requirements in order to ensure public health and safety. Mr. Goold's actions caused JANX to violate 10 CFR 34.41(a) and 10 CFR 30.52(a) and have raised serious doubt as to whether he can be relied upon to comply with NRC requirements and now and in the future.

Consequently, I lack the requisite reasonable assurance that licensed activities can be conducted in compliance with the Commission's requirements and that the health and safety of the public will be protected if Mr. Goold were permitted at this time to be involved in NRC-licensed activities. Therefore, the public health, safety, and interest require that Mr. Goold be prohibited from any involvement in NRC-licensed activities for a period of one year from the effective date of this Order, as defined in Section V.

Additionally Mr. Goold is required to notify the NRC of his first employment in NRC-licensed activities for a period of one year following the prohibition period.

IV

Accordingly, pursuant to Sections 81, 161b, 161i, 161o, 182 and 186 of the Atomic Energy Act of 1954, as amended, and the Commission's regulations in 10 CFR 2.202, 10 CFR 30.10, 10 CFR Parts 20, 34, and 10 CFR 150.20, it is hereby ordered that:

1. Mr. Timothy Goold is prohibited for one year from the effective date of this Order, as defined in Section V, from involvement in the performance of NRC licensed activities. This includes, but is not limited to:

(a) Industrial radiography for an NRC licensee, including, but not limited to, radiography conducted under the authority of a license issued pursuant to 10 CFR Part 34; and

(b) industrial radiography for an Agreement State licensee that is conducted in non-Agreement States, in areas of exclusive federal jurisdiction within Agreement States, or in offshore waters under an NRC general license granted pursuant to 10 CFR 150.20.

2. If, as of the effective date of this Order, Mr. Goold is currently involved in NRC-licensed activities, he must immediately cease those activities, and inform the NRC of the name, address and telephone number of the employer, and provide a copy of this Order to the employer.

3. For a period of one year after the one year period of prohibition has expired, Mr. Goold shall, within 30 days of acceptance of his first employment offer involving NRC-licensed activities or his becoming involved in NRC-licensed activities, provide notice to the Director, Office of Enforcement, U.S. Nuclear Regulatory Commission, Washington, DC 20555-0001, of the name, address and telephone number of the employer or the entity where he is, or will be, involved in the NRC-licensed activities. In the notification, Mr. Goold shall include a statement of his commitment to compliance with NRC regulatory requirements and the basis for why the Commission should have confidence that he will now comply with applicable NRC requirements.

The Director, Office of Enforcement, may, in writing, relax or rescind any of the above conditions upon demonstration by Mr. Goold of good cause.

V

In accordance with 10 CFR 2.202, Mr. Goold must, and any other person adversely affected by this Order may, submit an answer to this Order within 20 days of its publication in the Federal Register. In addition, Mr. Goold and any other person adversely affected by this Order may request a hearing on this Order within 20 days of its publication in the Federal Register. Where good cause is shown, consideration will be given to extending the time to answer or request a hearing. A request for extension of time must be directed to the Director, Office of Enforcement, U.S. Nuclear Regulatory Commission, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, web-based submission form. In order to serve documents through the Electronic Information Exchange System, users will be required to install a web browser plug-in from the NRC's Web site.

Further information on the web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket, which is available to the public at http://ehd1.nrc.gov/ehd, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

If a person other than Mr. Goold requests a hearing, that person shall set forth with particularity the manner in which his interest is adversely affected by this Order and shall address the criteria set forth in 10 CFR 2.309(d) and (f).

If a hearing is requested by the recipient or a person whose interest is adversely affected, the Commission will issue an Order designating the time and place of any hearings. If a hearing is held, the issue to be considered at such hearing shall be whether this Order should be sustained. In the absence of any request for hearing, or written approval of an extension of time in which to request a hearing, the provisions specified in Section IV above shall be final 20 days from the date this Order is published in the Federal Register without further order or proceedings. If an extension of time for requesting a hearing has been approved, the provisions specified in Section IV shall be final when the extension expires if a hearing request has not been received.

Dated this 25th day of June 2012.
For the Nuclear Regulatory Commission.
Roy P. Zimmerman,
Director, Office of Enforcement.

[FR Doc. 2012-16172 Filed 6-29-12; 8:45 am]

BILLING CODE 7590-01-P